DEPARTMENT OF DEFENSE

Department of the Army, Corps of Engineers

Intent to Prepare a Draft Environmental Impact Statement/Environmental Impact Report for a Permit Application for a Proposed Marine Terminal Expansion at Pier J South in the Port of Long Beach, Los Angeles County, California

AGENCY: U.S. Army Corps of Engineers, Los Angeles District, DOD.

ACTION: Notice of intent.

SUMMARY: The U.S. Army Corps of Engineers (Corps) is considering an application for section 404 and section 10 permits to conduct dredge and fill activities to construct a 385-acre marine terminal including development of 270 acres of existing land and the placement of dredged material in open water to create 115 acres of new land.

The primary Federal concern is the dredging and discharging of materials within waters of the United States and potential impacts on the human environment. Therefore, in accordance with the National Environmental Policy Act (NEPA), the Corps is requiring the preparation of an Environmental Impact Statement (EIS) prior to consideration of any permit action. The Corps may ultimately make a determination to permit or deny the above project, or permit or deny modified versions of the above project.

Pursuant to the California Environmental Quality Act (CEQA), the Port of Long Beach will serve as Lead Agency for the preparation of an Environmental Impact Report (EIR) for its consideration of development approvals within its jurisdiction. The Corps and the Port of Long Beach have agreed to jointly prepare a Draft EIS/EIR in order to optimize efficiency and avoid duplication. The Draft EIS/EIR is intended to be sufficient in scope to address both the Federal and the state and local requirements and environmental issues concerning the proposed activities and permit approvals.

FOR FURTHER INFORMATION CONTACT: Copies of comments and questions regarding scoping of the Draft EIS/EIR may be addressed to: U.S. Army Corps of Engineers, Los Angeles District, Regulatory Branch, ATTN: File Number 2001-00262-AOA, P.O. Box 532711, Los Angeles, California 90053-2325. Copies should also be sent to Stacey Crouch, Port of Long Beach, P.O. Box 570, Long Beach, CA 90801-0570. Phone messages or questions will be handled by Dr. Aaron O. Allen at 213-452-3413.

SUPPLEMENTARY INFORMATION:

Project Site

The proposed project is located in the southern portion of the Port of Long Beach, California. the proposed dredge and fill activities would take place at Pier J South and would involve consolidating the existing Pacific Container Terminal and the Maersk Terminal to create a single 385-acre marine terminal to accommodate increasing cargo volumes being generated by the new generation of larger container vessels.

Proposed Action

The project applicant, the Port of Long Beach, proposes to permanently impact approximately 115 acres of open-water habitat for dredge and fill activities for the construction of a new 385-acre marine terminal in the Port of Long Beach. The proposed project would take place in three phases over an 8.5-year period. Phase 1 would require dredging approximately 2.5 million cubic yards of sediment from other areas in the Port of Long Beach, placement of the dredged material to create 31 acres of new land southwest and adjacent to Pier J, construction of a 3,000-foot-long rock dike and dredging a 100-foot by 2,000-foot area of the main channel from -66 MLLW to -76 MLLW to allow for deep-draft vessels to navigate safely past the proposed 31-acre fill area. Phase 2 would require dredging 2.7 million cubic yards from other areas in the Port of Long Beach, dredging and excavating 1.8 million cubic yards of material to remove 15 acres of existing land at Pier F, placement of the dredged and excavated material to create 35 acres of new land west of and adjacent to Pier J, construction of a 4,600-foot-long rock dike and construction of a 1,750-foot-long pile-supported concrete wharf extension. Phase 3 would include dredging approximately 4.5 million cubic yards from other areas in the Port of Long Beach, placement of the dredged material to create 49 acres of new land on the east side of Pier J and construction of 900-foot-long rock dike. All of the above construction phases would include the demolition of existing terminal facilities including berths F-203, F-204 and an existing wharf at berths J-266 and J-270 as well as existing buildings and infrastructure in upland areas. As part of the proposed 385-acre project, new terminal facilities would be constructed including 10,000 linear feet of additional rail loading tracks, 20,000 linear feet of storage tracks, storm drain system, pavement, lighting, utilities, administrative buildings, fire protection, parking lots, roads, communications and maintenance buildings.

Issues

There are several potential environmental issues that will be addressed in the EIS/EIR. Additional issues may be identified during the scoping process. Issues initially identified as potentially significant include:

1. Geological issues including dredging and stabilization of fill areas.

2. Potential impacts to marine biological resources.

3. Impacts to air quality.

4. Traffic, including navigation issues, and transportation related impacts.

5. Potential to noise impacts.

6. Impacts to public utilities and services.

7. Impact to aesthetic resources.

8. Potential impacts on public health and safety.

9. Cumulative impacts.

Alternatives

Several alternatives are being considered for the proposed marine terminal. These alternatives will be further formulated and developed during the scoping process and an appropriate range of alternatives, including the no federal action alternative, will be considered in the EIS/EIR.

Scoping Process

A public meeting will be held to receive public comment and assess public concerns regarding the appropriate scope and preparation of the Draft EIS/EIR. Participation in the public meeting by federal, state and local agencies and other interested organizations and persons is encouraged.

The Corps of Engineers will also be consulting with the U.S. Fish and Wildlife Service under the Endangered Species Act and Fish and Wildlife Coordination Act, and with the National Marine Fisheries Service under the Magnuson-Stevens Act. Additionally, the EIS/EIR will assess the consistency of the proposed Action with the Coastal Zone Management Act and potential water quality impacts pursuant to Section 401 of the Clean Water Act.

The public scoping meeting for the Draft EIS/EIR will be held at the Port of Long Beach on February 7, 2001, and will start at 7:00 p.m. Written comments will be received until February 28, 2001.

Availability of the Draft EIS

The Draft EIS/EIR is expected to be published and circulated in April of 2001, and a Public Hearing will be held after its publication.

Dated: January 8, 2001.
John P. Carroll,
Colonel, Corps of Engineers, District Engineer.

[FR Doc. 01-2013 Filed 1-22-01; 8:45 am]

BILLING CODE 3710-KF-M